DEPARTMENT OF AGRICULTURE

Forest Service

Notice of Settlement Pursuant to CERCLA; Blue Ledge Mine Site, Siskiyou County, California

AGENCY: Forest Service, USDA and Environmental Protection Agency (EPA).

ACTION: Notice of settlement.

SUMMARY: In accordance with section 122(i) of the Comprehensive Environmental Response, Compensation, and Liability Act, as amended (CERCLA), notice is hereby given of an administrative settlement to resolve the alleged liability of the Trust of Michelle E. Tracey (Settling Party) for response costs incurred by the United States at or in connection with the Blue Ledge Mine Site (the “Site”), a former copper mining site located in Siskiyou County, California, on land owned by the Trust.

DATES: Comments must be submitted on or before July 17, 2019.

FOR FURTHER INFORMATION CONTACT: Copies of the proposed settlement are available for public inspection at: Rogue River-Siskiyou National Forest, 3040 Biddle Road, Medford, Oregon, 97504; and USDA Forest Service Pacific Northwest Region, 1220 SW 3rd Avenue, Portland, Oregon 97204-2825. For technical information or a copy of the proposed settlement, contact Karen Gamble at the USDA Forest Service Pacific Northwest Regional Office at (541) 523-1245. For legal information or a copy of the proposed settlement, contact Gary M. Fremerman with USDA's Office of the General Counsel, (202) 720-8041; email: gary.fremerman@usda.gov. Comments should reference the Blue Ledge Mine Site, Siskiyou County, California, and should be addressed to Gary M. Fremerman, USDA Office of the General Counsel, Room 2013-South Building, 1400 Independence Avenue SW, Washington, DC 20250-1412; phone (202) 720-8041; email: gary.fremerman@usda.gov. Legal information or a copy of the proposed settlement may also be obtained from Tessa Berman, Assistant Regional Counsel, Office of Regional Counsel (ORC-3-1), U.S. EPA Region IX, 75 Hawthorne Street, San Francisco, CA 94105; phone (415) 972-3472; fax: (417) 947-3570; email: berman.tessa@epa.gov.

SUPPLEMENTARY INFORMATION: In accordance with section 122(i) of the Comprehensive Environmental Response, Compensation, and Liability Act, as amended (CERCLA), 42 U.S.C. 9622(i), notice is hereby given of an administrative settlement to resolve the alleged liability of the Trust of Michelle E. Tracey (Settling Party) for response costs incurred by the United States at or in connection with the Blue Ledge Mine Site (the “Site”), a former copper mining site located in Siskiyou County, California, on land owned by the Trust. Under the settlement, the Settling Party has agreed, among other things, to (1) transfer certain land owned by the Trust to the United States, and (2) provide the United States access to all of the land owned by the Trust at the Site to conduct cleanup and any other necessary activities.

The United States has agreed to forego the collection of its costs incurred at the Site from the Trust because of the Trust's financial inability to pay these costs. The settlement includes a covenant not to sue the Settling Party pursuant to Sections 106 and 107of CERCLA, 42 U.S.C. 9606 and 9607, with regard to the Site.

For thirty (30) days following the date of publication of this notice, the United States will receive written comments relating to the settlement pursuant to CERCLA Section 122(i), 42 U.S.C. 9622(i). The United States will consider all comments received and may modify or withdraw its consent to the settlement if comments received disclose facts or considerations which indicate that the settlement is inappropriate, improper, or inadequate. The United States' response to any comments received will be available for public inspection at: Rogue River-Siskiyou National Forest, 3040 Biddle Road, Medford, Oregon 97504; and USDA Forest Service Pacific Northwest Region, 1220 SW 3rd Avenue, Portland, Oregon 97204-2825.

Dated: May, 31, 2019.
Frank R. Beum,
Acting Associate Deputy Chief, National Forest System.

[FR Doc. 2019-12752 Filed 6-14-19; 8:45 am]

BILLING CODE 3411-15-P